DEPARTMENT OF ENERGY

Federal Energy Regulatory Commission

Combined Notice of Filings #1

Take notice that the Commission received the following electric rate filings:

Docket Numbers: ER12-1572-001.

Applicants: ITC Midwest LLC.

Description: Amendment of ITC Midwest LLC SMMPA O&M Agreement to be effective 4/20/2012.

Filed Date: 6/14/12.

Accession Number: 20120614-5139.

Comments Due: 5 p.m. ET 7/5/12.

Docket Numbers: ER12-1842-001.

Applicants: The Finerty Group, Inc.

Description: Amendment of Pending New to be effective 5/25/2012.

Filed Date: 6/14/12.

Accession Number: 20120614-5110.

Comments Due: 5 p.m. ET 7/5/12.

Docket Numbers: ER12-2029-000.

Applicants: Locust Ridge II, LLC.

Description: Tariff Revisions to be effective 6/15/2012.

Filed Date: 6/14/12.

Accession Number: 20120614-5012.

Comments Due: 5 p.m. ET 7/5/12.

Docket Numbers: ER12-2030-000.

Applicants: Manzana Wind LLC.

Description: Tariff Revisions to be effective 6/15/2012.

Filed Date: 6/14/12.

Accession Number: 20120614-5019.

Comments Due: 5 p.m. ET 7/5/12.

Docket Numbers: ER12-2031-000.

Applicants: Mountain View Power Partners III, LLC.

Description: Tariff Revisions to be effective 6/15/2012.

Filed Date: 6/14/12.

Accession Number: 20120614-5020.

Comments Due: 5 p.m. ET 7/5/12.

Docket Numbers: ER12-2032-000.

Applicants: New England Wind, LLC.

Description: Tariff Revisions to be effective 6/15/2012.

Filed Date: 6/14/12.

Accession Number: 20120614-5024.

Comments Due: 5 p.m. ET 7/5/12.

Docket Numbers: ER12-2033-000.

Applicants: Pebble Springs Wind LLC.

Description: Tariff Revisions to be effective 6/15/2012.

Filed Date: 6/14/12.

Accession Number: 20120614-5025.

Comments Due: 5 p.m. ET 7/5/12.

Docket Numbers: ER12-2034-000.

Applicants: Southern California Edison Company.

Description: Amended IFA with Inland Empire Energy Center to be effective 8/14/2012.

Filed Date: 6/14/12.

Accession Number: 20120614-5026.

Comments Due: 5 p.m. ET 7/5/12.

Docket Numbers: ER12-2035-000.

Applicants: Southern California Edison Company.

Description: Amended Inland Empire Energy Center Tie-Line Agreement to be effective 8/14/2012.

Filed Date: 6/14/12.

Accession Number: 20120614-5027.

Comments Due: 5 p.m. ET 7/5/12.

Docket Numbers: ER12-2036-000.

Applicants: Providence Heights Wind, LLC.

Description: Tariff Revisions to be effective 6/15/2012.

Filed Date: 6/14/12.

Accession Number: 20120614-5050.

Comments Due: 5 p.m. ET 7/5/12.

Docket Numbers: ER12-2037-000.

Applicants: Spearville 3, LLC.

Description: Spearville 3 Baseline MBR Application Filing to be effective 7/23/2012.

Filed Date: 6/14/12.

Accession Number: 20120614-5051.

Comments Due: 5 p.m. ET 7/5/12.

Docket Numbers: ER12-2038-000.

Applicants: San Luis Solar LLC.

Description: Tariff Revisions to be effective 6/15/2012.

Filed Date: 6/14/12.

Accession Number: 20120614-5052.

Comments Due: 5 p.m. ET 7/5/12.

Docket Numbers: ER12-2039-000.

Applicants: Shiloh I Wind Project, LLC.

Description: Tariff Revisions to be effective 6/15/2012.

Filed Date: 6/14/12.

Accession Number: 20120614-5058.

Comments Due: 5 p.m. ET 7/5/12.

Docket Numbers: ER12-2040-000.

Applicants: South Chestnut LLC.

Description: Tariff Revisions to be effective 6/15/2012.

Filed Date: 6/14/12.

Accession Number: 20120614-5059.

Comments Due: 5 p.m. ET 7/5/12.

Docket Numbers: ER12-2041-000.

Applicants: ISO New England Inc., New England Power Pool Participants Committee.

Description: Defined Term Revisions to be effective 8/14/2012.

Filed Date: 6/14/12.

Accession Number: 20120614-5062.

Comments Due: 5 p.m. ET 7/5/12.

Docket Numbers: ER12-2042-000.

Applicants: Star Point Wind Project LLC.

Description: Tariff Revisions to be effective 6/15/2012.

Filed Date: 6/14/12.

Accession Number: 20120614-5064.

Comments Due: 5 p.m. ET 7/5/12.

Docket Numbers: ER12-2043-000.

Applicants: Streator-Cayuga Ridge Wind Power LLC.

Description: Rate Schedule to be effective 6/15/2012.

Filed Date: 6/14/12.

Accession Number: 20120614-5066.

Comments Due: 5 p.m. ET 7/5/12.

Docket Numbers: ER12-2044-000.

Applicants: Twin Buttes Wind LLC.

Description: Tariff Revisions to be effective 6/15/2012.

Filed Date: 6/14/12.

Accession Number: 20120614-5067.

Comments Due: 5 p.m. ET 7/5/12.

Docket Numbers: ER12-2045-000.

Applicants: New York Independent System Operator, Inc., Niagara Mohawk Power Corporation.

Description: Amended Restated SGIA No. 1168 Among NYISO, Niagara Mohawk, and Albany Energy to be effective 5/2/2012.

Filed Date: 6/14/12.

Accession Number: 20120614-5132.

Comments Due: 5 p.m. ET 7/5/12.

Docket Numbers: ER12-2046-000.

Applicants: Black Hills Power, Inc.

Description: Amended GDEMA to be effective 7/1/2012.

Filed Date: 6/14/12.

Accession Number: 20120614-5141.

Comments Due: 5 p.m. ET 7/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2012.
Nathaniel J. Davis, Sr.,
Deputy Secretary.

[FR Doc. 2012-15406 Filed 6-22-12; 8:45 am]

BILLING CODE 6717-01-P